SMALL BUSINESS ADMINISTRATION

[Declaration of Disaster #3305; Amendment #1]

State of Arizona

In accordance with notices received from the Federal Emergency Management Agency, dated November 8 and November 16, 2000, the above-numbered Declaration is hereby amended to include Pinal County and the Gila River Indian Community in the State of Arizona as a disaster area due to damages caused by severe storms and flooding, and to establish the incident period for this disaster as beginning on October 21, 2000 and continuing through November 8, 2000.

In addition, applications for economic injury loans from small businesses located in the contiguous county of Graham, Arizona may be filed until the specified date at the previously designated location. All other contiguous counties have been previously declared.

All other information remains the same, i.e., the deadline for filing applications for physical damage is December 26, 2000 and for economic injury the deadline is July 27, 2001.

(Catalog of Federal Domestic Assistance Program Nos. 59002 and 59008.)
Dated: November 20, 2000.
Herbert L. Mitchell,
Acting Associate Administrator for Disaster Assistance.

[FR Doc. 00-30262 Filed 11-27-00; 8:45 am]

BILLING CODE 8025-01-P